DEPARTMENT OF COMMERCE

National Oceanic and Atmospheric Administration

RIN 0648-XC100

Marine Mammals; File No. 17115

AGENCY: National Marine Fisheries Service (NMFS), National Oceanic and Atmospheric Administration (NOAA), Commerce.

ACTION: Notice; receipt of application.

SUMMARY: Notice is hereby given that James Lloyd-Smith, Department of Ecology and Evolutionary Biology, University of California, Los Angeles, 610 Charles E. Young Dr. South, Box 723905, Los Angeles, California 90095-7239, has applied in due form for a permit to conduct research on California sea lions (Zalophus californianus).

DATES: Written, telefaxed, or email comments must be received on or before August 13, 2012.

ADDRESSES: The application and related documents are available for review by selecting “Records Open for Public Comment” from the Features box on the Applications and Permits for Protected Species (APPS) home page, https://apps.nmfs.noaa.gov, and then selecting File No. 17115 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Sloan or Joselyd Garcia-Reyes, (301) 427-8401.

SUPPLEMENTARY INFORMATION: The subject permit is requested under the authority of the Marine Mammal Protection Act of 1972, as amended (MMPA; 16 U.S.C. 1361 et seq.), and the regulations governing the taking and importing of marine mammals (50 CFR part 216).

To better understand the dynamics of leptospirosis in the California sea lions, the applicant requests a scientific research permit to investigate exposure to and shedding of leptospirosis in this species, with the long-term goal of understanding the mechanisms underlying recurrent and deadly epizootics of leptospirosis in California sea lions. By analyzing data collected from wild caught, free-ranging sea lions and comparing it to data from stranded sea lions, the applicant aims to establish how seroprevalence and incidence data gathered from stranded animals can be scaled up to reflect the patterns occurring in the entire wild population of sea lions. Up to 5,100 California sea lions may be taken annually from Año Nuevo Island including 20 by capture and release, 80 by capture/sample/release and 5,000 by incidental disturbance. Procedures include: Capture (stalking, hoop net); restraint (board, cage, hand, net); anesthesia (gas); mark (flipper tag); measure; and sample (blood, urine, vibrissae). Up to 3,000 northern elephant seals (Mirounga angustirostris) and up to 60 Pacific harbor seals (Phoca vitulina) may be taken annually due to incidental disturbance. In addition, up to four California sea lions may be taken by unintentional mortality during the requested 5-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 6, 2012.
P. Michael Payne,
Chief, Permits and Conservation Division, Office of Protected Resources, National Marine Fisheries Service.

[FR Doc. 2012-17036 Filed 7-11-12; 8:45 am]

BILLING CODE 3510-22-P